DEPARTMENT OF STATE

[Public Notice: 10838]

Certification Pursuant to Section 6(A) of the Nicaragua Human Rights and Anticorruption Act of 2018

By virtue of the authority vested in me as the Deputy Secretary of State, and pursuant to section 6(a) of the Nicaragua Human Rights and Anticorruption Act of 2018 (Pub. L. 115-335) and Department of State Delegation of Authority 245-2, I hereby certify that the Government of Nicaragua is not taking effective steps to:

• Strengthen the rule of law and democratic governance, including the independence of the judicial system and electoral council;

• combat corruption, including by investigating and prosecuting cases of public corruption;

• protect civil and political rights, including the rights of freedom of the press, speech, and association, for all people of Nicaragua, including political opposition parties, journalists, trade unionists, human rights defenders, indigenous peoples, and other civil society activists;

• investigate and hold accountable officials of the Government of Nicaragua and other persons responsible for the killings of individuals associated with the protests in Nicaragua that began on April 18, 2018; and

• hold free and fair elections overseen by credible domestic and international observers.

This determination shall be published in the Federal Register and, along with the accompanying Memorandum of Justification, shall be reported to Congress.

Dated: July 6, 2019.
John J. Sullivan,
Deputy Secretary of State.

[FR Doc. 2019-16349 Filed 7-30-19; 8:45 am]

BILLING CODE 4710-29-P